DEPARTMENT OF ENERGY

Renewable Energy Development On Tribal Lands

AGENCY: Golden Field Office, U.S. Department of Energy.

ACTION: Notice of issuance of solicitation for financial assistance applications number DE-PS36-03GO93002.

SUMMARY: The U.S. Department of Energy (DOE), pursuant to the DOE Financial Assistance Rules, 10 CFR 600.8, is announcing its intention to solicit applications for the development of renewable energy on Tribal lands. Under the solicitation, DOE is soliciting applications for financial assistance from Federally-recognized Tribes or Alaskan Native Corporations (hereafter referred to as “Tribes”) to either: (1) Conduct feasibility studies for the development of economically sustainable renewable energy installations on Tribal Lands; or (2) implement sustainable renewable energy development projects.

DATES: Issuance of the solicitation is planned for early March 2003.

ADDRESSES: To obtain a copy of the solicitation, once issued, interested parties should access the DOE Golden Field Office Home Page at http://www.golden.doe.gov/businessopportunities.html, click on “Solicitations,” and then access the solicitation number identified above. The DOE Golden Field Office Home Page will provide a link to the solicitation synopsis in the Industry Interactive Procurement System (IIPS) Web site and provides instructions on using IIPS. The solicitation will be available directly through IIPS at http://e-center.doe.gov by browsing opportunities by Contract Activity, for those solicitations issued by the Golden Field Office. To be notified when the solicitation is issued, join the Solicitation Mailing List specific to this notice through IIPS. DOE will not issue paper copies of the solicitation. For questions regarding the operation of IIPS, contact the IIPS Help Desk at IIPS_HelpDesk@e-center.doe.gov or at (800) 683-0751.

FOR FURTHER INFORMATION CONTACT: Tammie Lawler, Contract Specialist, via facsimile at 303-275-4788 or electronically at tribalgo93002@go.doe.gov. Responses to questions will be made by amendment to the solicitation and posted on the DOE Industry Interactive Procurement System (IIPS) Web site.

SUPPLEMENTARY INFORMATION: DOE's Tribal Energy Program promotes tribal energy self-sufficiency and fosters employment and economic development on Tribal Lands through financial assistance to Native American Tribes and Alaskan Native Corporations for feasibility studies and renewable energy development projects. Under this solicitation, DOE will be soliciting applications for financial assistance from Federally-recognized Tribes or Alaskan Native Corporations (hereafter referred to as “Tribes”) to either: (1) Conduct feasibility studies for the development of economically sustainable renewable energy installations on Tribal Lands; or (2) implement sustainable renewable energy development projects.

Eligible technologies under this solicitation include, but are not limited to the following: photovoltaic (solar electric), concentrating solar power, solar thermal systems (i.e., active or passive solar technologies for space or water heating, or power generation technologies), wind, biomass power, hydro, geothermal electric generation, geothermal resources for direct heating and cooling applications, and other renewable hybrid systems. Applications may include, but are not limited to, the use of renewable energy for: direct electrical generation, building uses, water pumping, or other grid connected or off-grid power uses.

DOE will only consider applications from Federally-recognized Tribes on whose Tribal Lands the project will be located. Applications from a consortium will be accepted but must be submitted by a single Tribe representing the consortium. A Statement of Commitment from an authorized representative of the Tribe (Chief, Governor, President, Chairperson or other representative able to commit the Tribe), that includes a Statement of Commitment from each participant will be required as part of the application. For Development Project Applications, a Tribal Council Resolution or a commitment and a plan to obtain a Resolution is required. Awards under this solicitation will be grants or cooperative agreements with terms of one to three years depending on the type and scope of the proposed project. Subject to funding availability, the total DOE funding available under this solicitation is estimated at between $2,000,000 to $3,000,000. DOE anticipates selecting 5 to 10 Renewable Energy Feasibility Study Applications and 3 to 5 Renewable Energy Development Project Applications for negotiation toward award. No cost share is required in order to be considered for feasibility study awards under this solicitation. For development projects, a minimum cost share of 20% of total project costs (DOE funds plus Cost Share) is required to be considered for award. Solicitation number DE-PS36-03GO93002 will include complete information including technical aspects, funding, application preparation instructions, evaluation criteria, and other factors that will be considered when selecting applications for funding. Issuance of the solicitation is planned for early March 2003, with applications due approximately 60 days after the solicitation has been issued. Information on Financial Assistance Regulations (10 CFR 600), proposal forms, award format, or post award forms can be obtained through the DOE Golden Field Office Home Page http://www.golden.doe.gov/businessopportunities.html.

Issued in Golden, Colorado, on March 4, 2003.
Jerry L. Zimmer,
Director, Office of Acquisition and Financial Assistance.

[FR Doc. 03-6167 Filed 3-13-03; 8:45 am]

BILLING CODE 6450-01-P